DEPARTMENT OF LABOR

Employment and Training Administration

[TA-W-50,179]

SMT, Inc., Hanover, MI; Notice of Negative Determination Regarding Application for Reconsideration

By application of May 8, 2003, a petitioner requested administrative reconsideration of the Department's negative determination regarding eligibility to apply for Trade Adjustment Assistance (TAA), applicable to workers and former workers of the subject firm. The denial notice was signed on April 4, 2003, and published in the Federal Register on April 24, 2003 (68 FR 20177).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The petition for the workers of SMT Automotive, Inc., Schrader Machine & Tool, Hanover, Michigan was denied because the “contributed importantly” group eligibility requirement of Section 222(3) of the Trade Act of 1974, as amended, was not met. The “contributed importantly” test is generally demonstrated through a survey of customers of the workers' firm. The survey revealed that none of the respondents increased their purchases of imported metal brackets and braces. The investigation revealed that company did not import metal brackets and braces in the relevant period, nor did it shift production to a foreign facility.

The petitioner alleges that “eight jobs * * * went to Raccine (sic) in Mexico” and proceeds to list several part numbers.

When the petitioner was contacted for clarification on these allegations, the Department was referred to a former company official who had provided the information initially. This former company official stated that the parts listed in the reconsideration request concerned a Mexican customer. Foreign customers are not relevant in TAA investigations.

Conclusion

After review of the application and investigative findings, I conclude that there has been no error or misinterpretation of the law or of the facts which would justify reconsideration of the Department of Labor's prior decision. Accordingly, the application is denied.

Signed at Washington, DC this 3rd day of June, 2003.
Elliott S. Kushner,
Certifying Officer, Division of Trade Adjustment Assistance.

[FR Doc. 03-15471 Filed 6-18-03; 8:45 am]

BILLING CODE 4510-30-P